DEPARTMENT OF LABOR

Occupational Safety and Health Administration

29 CFR Part 1910

[Docket No. OSHA-2007-0021]

RIN 1218-AC11

Announcement of Additional Stakeholder Meetings on Occupational Exposure to Ionizing Radiation

AGENCY: Occupational Safety and Health Administration, Labor.

ACTION: Announcement of additional stakeholder meetings.

SUMMARY: The Occupational Safety and Health Administration (OSHA) invites interested parties to participate in or observe informal stakeholder meetings on Occupational Exposure to Ionizing Radiation. These meetings are a continuation of OSHA's information collection efforts on ionizing radiation.

DATES: Stakeholder meetings: The stakeholder meeting dates are:

1. 8:30 a.m.-1 p.m., April 19, 2007, Chicago, IL.

2. 8:30 a.m.-4:30 p.m., April 26, 2007, Washington, DC.

Notice of intention to attend a stakeholder meeting: You must submit a notice of intention to attend (i.e., to participate or observe) the Chicago, IL or Washington, DC, stakeholder meeting by April 11, 2007.

ADDRESSES: Stakeholder meetings: The stakeholder meeting locations are:

1. Crown Plaza Chicago O'Hare, 5440 North River Road, Rosemont, IL 60018.

2. Frances Perkins Building, U.S. Department of Labor, 200 Constitution Avenue, NW., Washington, DC 20210.

Notices of intention to attend a stakeholder meeting: You may submit your notice of intention to attend (i.e., to participate or observe) a stakeholder meeting by any of the following methods:

Electronic: OSHA encourages you to submit your notice of intention to attend to navas.liset@dol.gov.

Facsimile: You may fax your notice of intention to attend to (202) 693-1678.

Regular mail, express delivery, hand delivery, messenger and courier service: Submit your notice of intention to attend to Liset Navas, OSHA, Directorate of Standards and Guidance, Room N-3718, U.S. Department of Labor, 200 Constitution Avenue, NW., Washington, DC 20210; telephone (202) 693-1950. The Department of Labor's and OSHA's normal hours of operation are 8:15 a.m. to 4:45 p.m., e.t.

Instructions: For further information on the stakeholder meetings and submitting notices of intention to attend (i.e., to participate or observe) one of the meetings, see the “Public Participation” heading in the SUPPLEMENTARY INFORMATION section of this notice.

Because of security-related procedures, the use of regular mail may cause a significant delay in the receipt of notices of intention to attend. For information about security procedures concerning the delivery of materials by hand, express mail, messenger or courier service, please contact Liset Navas at (202) 693-1950.

Electronic copies of this Federal Register notice are available at http://www.regulations.gov. This document, non-attributed notes from the stakeholder meetings, as well as news releases and other relevant information, will also be available at OSHA's Web page at http://www.osha.gov.

FOR FURTHER INFORMATION CONTACT: Michael Seymour, Director, OSHA, Office of Physical Hazards, Directorate of Standards and Guidance, Room N-3718, U.S. Department of Labor, 200 Constitution Avenue, NW., Washington, DC 20210; telephone (202) 693-1950.

SUPPLEMENTARY INFORMATION:

Background

The use of ionizing radiation has increased significantly in recent years. Today, ionizing radiation is used in a wide variety of workplaces and operations, including security operations, hospitals and medical offices, dental offices, manufacturing worksites, research facilities, forestry and other agricultural worksites, and wastewater treatment plants.

In 2005, OSHA initiated information collection efforts to obtain data, information, and comment on the increased workplace use of ionizing radiation and other related issues. These efforts started with the publication of a Request for Information (RFI) on May 3, 2005 (70 FR 22828). OSHA received 51 comments in response to the RFI. To supplement this information, OSHA is inviting interested parties to attend informal stakeholder meetings on the Occupational Exposure to Ionizing Radiation. OSHA will use the data and materials obtained through these information collections efforts to determine, in conjunction with other Federal agencies, whether regulatory action is necessary is protect employees from ionizing radiation exposure.

OSHA's existing standard on Ionizing Radiation (29 CFR 1910.1096) was adopted in 1971 pursuant to section 6(a) of the Occupational Safety and Health Act of 1970 (OSH Act) (29 U.S.C. 651, 655). The standard has remained largely unchanged since that time.

OSHA's Ionizing Radiation standard applies to all workplaces except agricultural operations and those workplaces exempted from OSHA jurisdiction under section 4(b)(1) of the OSH Act (29 U.S.C. 653). Section 4(b)(1) states:

Nothing in this Act shall apply to working conditions of employees with respect to which other Federal agencies, and State agencies acting under section 274 of the Atomic Energy Act of 1954, as amended (42 U.S.C. 2021), exercise statutory authority to prescribe or enforce standards or regulations affecting occupational safety and health.

The Nuclear Regulatory Commission (NRC) has statutory authority for licensing and regulating nuclear facilities and materials as mandated by the Atomic Energy Act of 1954 (as amended) (42 U.S.C. 2011 et seq.), the Energy Reorganization Act of 1974 (as amended), the Nuclear Nonproliferation Act of 1978, and other applicable statutes. Specifically, the NRC has the authority to regulate source, byproduct and certain special nuclear materials (e.g., nuclear reactor fuel). This authority covers radiation hazards in NRC-licensed nuclear facilities produced by radioactive materials and plant conditions that affect the safety of radioactive materials and thus present an increased radiation hazard to workers.

In 1988, OSHA and NRC signed a memorandum of understanding (MOU) delineating the general areas of responsibility of each agency (CPL 2.86, December 22, 1989). The MOU specifies that at NRC-licensed facilities OSHA has authority to regulate occupational ionizing radiation sources not regulated by NRC (CPL 2.86). Examples of non-NRC regulated radiation sources include X-ray equipment, accelerators, electron microscopes, betatrons, and some naturally occurring radiation sources (CPL 2.86). (See the Ionizing Radiation RFI (70 FR 22828) for additional information on sources of ionizing radiation exposure, workplace uses of ionizing radiation, and health effects of ionizing radiation exposure.)

Most recently, the Energy Policy Act of 2005 authorized NRC to regulate material made radioactive by accelerators by adding “accelerator-produced material” to the definition of “byproduct material” that NRC is authorized to license and regulate. The Energy Policy Act directed NRC to issue licensing and compliance oversight regulations to carry out the legislation. Until NRC issues and begins enforcing those regulations, OSHA retains authority over both accelerators and the materials they produce.

Stakeholder Meetings

OSHA intended to hold four stakeholder meetings on Occupational Exposure to Ionizing Radiation, the first two meetings covering the healing arts and industrial radiography, were announced on March 5, 2007 in the Federal Register (72 FR 9716). The healing arts stakeholder meeting was held in Washington, DC on March 16, 2007 and the industrial radiography was scheduled to be held on March 26, 2007 in Orlando, Florida but, was cancelled due to lack of participation. The Agency is announcing in this notice the third and fourth meetings. The third scheduled stakeholder meeting, to be held in Chicago, IL, will cover the non-medical or security use of accelerators. The fourth scheduled stakeholder meeting, to be held in Washington, DC will cover the use of ionizing radiation in security activities. OSHA encourages interested parties to attend only the stakeholder meeting that deals with their industry, occupation, or operation.

The stakeholder meetings will be an opportunity for informal discussion and the exchange of data, ideas, and points of view. To make the stakeholder meetings as productive as possible, OSHA requests that interested parties attending stakeholder meetings be prepared to discuss the following issues relating to occupational exposure to ionizing radiation in their respective industries, occupations, or operations:

• Uses of ionizing radiation;

• Available exposure data;

• Controls utilized to minimize exposure; and

• Training.

In addition, OSHA will use the stakeholder meetings to discuss comments and materials received in response to the RFI.

Each stakeholder meeting will begin with OSHA's presentation on Agency responsibilities related to occupational exposure to ionizing radiation followed by stakeholder questions. OSHA will devote the remainder of each meeting to informal discussions on the topics above and related issues. In particular, OSHA is interested in hearing firsthand from employers and employees and in reviewing exposure data. Meeting participants are not expected to prepare and present formal testimony.

Public Participation—Submission of Notices of Intention To Attend and Access To Docket

You must submit a notice of intention to attend if you wish to participate in or observe a stakeholder meeting. You may submit notices of intention to attend one of the stakeholder meetings (1) electronically, (2) by facsimile, or (3) by hard copy. All notices must identify the Agency name and docket number for this notice (Docket No. OSHA-2007-0021). Because of security-related procedures, the use of regular mail may cause a significant delay in the receipt of notices of intention to attend. For information about security procedures concerning the delivery of materials by hand, express mail, messenger or courier service, please contact Liset Navas at (202) 693-1950.

Notices of intention to attend a stakeholder meeting must include the following information:

• Name and contact information;

• Affiliation (e.g., organization, association), if any;

• The stakeholder meeting you plan to attend;

• Whether you wish to be an active participant or observer; and

• Whether you need any special accommodations in order to attend or participate in a stakeholder meeting.

For access to comments and materials received in response to the RFI, go to OSHA Docket No. H-016 on OSHA's Web page at http://www.osha.gov. Contact the OSHA Docket Office, Docket No. H-016, Room N-2625, U.S. Department of Labor, 200 Constitution Avenue, NW., Washington, DC 20210; telephone (202) 693-2350 (OSHA's TTY number is (877) 889-5627) for information about materials in the RFI docket that are not available through OSHA's Web page and for assistance in using the Web page to locate docket submissions.

Electronic copies of this Federal Register notice are available at http://www.regulations.gov. This document, as well as news releases and other relevant information, also are available at OSHA's Web page at http://www.osha.gov.

Authority

This notice was prepared under the direction of Edwin G. Foulke, Jr., Assistant Secretary of Labor for Occupational Safety and Health. It is issued under Sections 4 and 8 of the Occupational Safety and Health Act of 1970 (29 U.S.C. 653, 657), and Secretary of Labor's Order No. 5-2002 (67 FR 65008).

Signed at Washington, DC on this 26th day of March, 2007.
Edwin G. Foulke, Jr.,
Assistant Secretary of Labor for Occupational Safety and Health.

[FR Doc. E7-5871 Filed 3-29-07; 8:45 am]

BILLING CODE 4510-26-P